DEPARTMENT OF STATE

[Public Notice 4705]

Notice of Renewal of Advisory Committee on International Law

SUMMARY: The Department of State has renewed the Charter of the Advisory Committee on International Law. Through this Committee, the Department of State will continue to obtain the views and advice of a cross-section of the country's outstanding members of the legal profession on significant issues of international law. The Committee's consideration of these legal issues in the conduct of our foreign affairs provides a unique contribution to the creation and promotion of U.S. foreign policy. The Under Secretary for Management has determined the Committee is necessary and in the public interest.

The Committee comprises all former Legal Advisers of the Department of State and up to 20 individuals appointed by the current Legal Adviser. The Committee follows the procedures prescribed by the Federal Advisory Committee Act (FACA). Meetings will be open to the public unless a determination is made in accordance with section 10(d) of the FACA, 5 U.S.C. 552b(c)(1) and (4), that a meeting or a portion of the meeting should be closed to the public. Notice of each meeting will be provided for publication in the Federal Register as far in advance as possible prior to the meeting.

For further information, please contact Judith L. Osborn, Executive Director, Office of the Assistant Legal Adviser for United Nations Affairs, 202-647-2767 or osbornjl@state.gov.

Dated: May 10, 2004.
Judith L. Osborn,
Attorney-Adviser, Office of United Nations Affairs, Office of the Legal Adviser, Executive Director, Advisory Committee on International Law, Department of State.

[FR Doc. 04-11109 Filed 5-14-04; 8:45 am]

BILLING CODE 4710-08-P